FARM CREDIT ADMINISTRATION

12 CFR Part 617

RIN 3052-AC24

Borrower Rights; Effective Date

AGENCY: Farm Credit Administration.

ACTION: Notice of effective date.

SUMMARY: The Farm Credit Administration (FCA) published a final rule under part 617 on April 12, 2005 (70 FR 18965). This final rule allows a borrower to waive borrower rights when receiving a loan from a qualified lender as part of a loan syndication with non-Farm Credit System lenders that are otherwise not required by section 4.14A(a)(6) of the Farm Credit Act of 1971, as amended, to provide borrower rights and provides qualified lenders needed flexibility to meet the credit needs of borrowers seeking financing from a qualified lender as part of certain syndicated lending arrangements. In accordance with 12 U.S.C. 2252, the effective date of the final rule is 30 days from the date of publication in the Federal Register during which either or both Houses of Congress are in session. Based on the records of the sessions of Congress, the effective date of the regulations is May 26, 2005.

DATES: The regulation amending 12 CFR part 617, published on April 12, 2005 (70 FR 18965), is effective May 26, 2005.

FOR FURTHER INFORMATION CONTACT: Mark Johansen, Senior Policy Analyst, Office of Policy and Analysis, Farm Credit Administration, McLean, VA 22102-5090, (703) 883-4498, TTY (703) 883-4434; or Howard Rubin, Senior Attorney, Office of General Counsel, Farm Credit Administration, McLean, VA 22102-5090, (703) 883-4020, TTY (703) 883-4020.

(12 U.S.C. 2252(a)(9) and (10))

Dated: May 26, 2005.
Jeanette C. Brinkley,
Secretary, Farm Credit Administration Board.

[FR Doc. 05-10874 Filed 5-31-05; 8:45 am]

BILLING CODE 6705-01-P